DEPARTMENT OF HEALTH AND HUMAN SERVICES

Administration for Children and Families

[CFDA Numbers: 93.592]

Announcing the Award of a Single-Source Grant to the Pennsylvania Coalition Against Domestic Violence in Harrisburg, PA

AGENCY: Family and Youth Services Bureau, ACYF, ACF, HHS.

ACTION: Notice of the award of a single-source grant under the Family Violence Prevention and Services Act (FVPSA) Technical Assistance (TA) Project to the Pennsylvania Coalition Against Domestic Violence (PCADV) to support training and technical assistance activities by Women of Color Network, Inc. (WOCN).

SUMMARY: The Administration for Children and Families (ACF), Administration on Children, Youth and Families (ACYF), Family and Youth Services Bureau (FYSB), Division of Family Violence and Prevention Services (DFVPS) announces the award of $175,000 as a single-source grant to the Pennsylvania Coalition Against Domestic Violence (PCADV) in Harrisburg, PA, to support activities by Women of Color Network Inc. (WOCN). The grantee, funded under the FVPSA program, is a technical assistance provider that assists FVPSA service providers to build the capacity of domestic violence programs.

DATES: The period of support for the single-source program expansion supplement is September 30, 2015 through September 29, 2016.

FOR FURTHER INFORMATION CONTACT: Shena Williams, Senior Program Specialist, Family Violence Prevention and Services Program, 330 C Street SW., Washington, DC 20201. Telephone: 202-205-5932; Email: Shena.Williams@acf.hhs.gov.

SUPPLEMENTARY INFORMATION: Grant funds will support WOCN, through the PCADV, to provide training and technical assistance to individuals and organizations dedicated to enhancing services to those in historically marginalized communities in domestic violence programs across the country.

The WOCN will provide technical assistance and training to FVPSA state administrators to strengthen collaborative efforts of state administrators and community-based organizations for the purposes of improving services to victims of domestic violence in diverse and historically marginalized communities.

This project may include such activities as listening sessions to identify specific needs, challenges and barriers to funding, services and collaborative efforts; documentation of technical assistance needs; and development of state-specific technical assistance plans and written recommendations for fostering and sustaining collaborative partnerships and capacity-building activities.

In addition to the issue of capacity-building activities, the grantee will provide support and training to address the identified barriers including gaps in leadership development. Training will include such activities as targeted technical assistance for state administrators, graduates and community-based organizations; resource sharing for the FVPSA state administrators, graduates and community-based organizations; evaluation and documentation of how the technical assistance and processes improved the skills, access, engagement and/or participation of the graduates, state administrators and community-based organizations.

Statutory Authority: Section 310 of the Family Violence Prevention and Services Act, as amended by Section 201 of the CAPTA Reauthorization Act of 2010, Pub. L. 111-320.

Christopher Beach,
Senior Grants Policy Specialist, Office of Administration.

[FR Doc. 2016-08534 Filed 4-13-16; 8:45 am]

BILLING CODE 4184-32-P